DEPARTMENT OF HOUSING AND URBAN DEVELOPMENT

[Docket No. FR-5324-N-02]

Notice of Regulatory Waiver Requests Granted for the Second Quarter of Calendar Year 2009

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on April 1, 2009 and ending on June 30, 2009.

FOR FURTHER INFORMATION CONTACT: For general information about this notice, contact Camille E. Acevedo, Associate General Counsel for Legislation and Regulations, Department of Housing and Urban Development, 451 Seventh Street, SW., Room 10282, Washington, DC 20410-0500, telephone 202-708-1793 (this is not a toll-free number). Persons with hearing- or speech-impairments may access this number through TTY by calling the toll-free Federal Information Relay Service at 800-877-8339.

For information concerning a particular waiver that was granted and for which public notice is provided in this document, contact the person whose name and address follow the description of the waiver granted in the accompanying list of waivers that have been granted in the second quarter of calendar year 2009.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from April 1, 2009 through June 30, 2009. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the second quarter of calendar year 2009) before the next report is published (the third quarter of calendar year 2009), HUD will include any additional waivers granted for the second quarter in the next report.

Accordingly, information about approved waiver requests pertaining to HUD regulations is provided in the Appendix that follows this notice.

Dated: September 8, 2009.
Helen R. Kanovsky,
General Counsel.

APPENDIX

Listing of Waivers of Regulatory Requirements Granted by Offices of the Department of Housing and Urban Development April 1, 2009 Through June 30, 2009

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 58.22(a).

Project/Activity: The Anacortes Family Shelter received Community Development Block Grant (CDBG) funds to construct a shelter. The shelter is an eight-unit family structure and related infrastructure, including sidewalks, curb/gutter and improvements to storm and sanitary sewer. The Anacortes Family Shelter, a CDBG subrecipient, used nonfederal fund to begin construction on the site in May of 2008, prior to the City completing the environmental review or submitted the Request for Release of Funds.

Nature of Requirement: The regulation requires that an environmental review be performed and a Request for Release of Funds be completed and certified prior to the commitment of non-HUD funds to a project using HUD funds.

Granted By: Nelson R. Bregón, General Deputy Assistant Secretary for Community Planning and Development.

Date Granted: April 20, 2009.

Reason Waived: The waiver was granted based on the following findings: the above project would further the objective of providing community development; no HUD funds were committed; and based on the environmental assessment, granting a waiver would not result in any unmitigated, adverse environmental impact.

Contact: Danielle Schopp, Office of Environment and Energy, Office of Community Planning and Development, Department of Housing and Urban Development, 451 Seventh Street, SW., Room 7250, Washington, DC 20410-7000, telephone (202) 402-4442.

• Regulation: 24 CFR 58.22(a).

Project/Activity: The Marklund Children's Home received an Economic Development Initiative- Special Purpose Grant (EDI) to demolish and reconstruct an existing facility. After receiving the EDI, but without DuPage County submitting a Request for Release of Fund or certification for HUD approval or completing an environmental review, Marklund Children's Home used non-HUD funds to demolish the existing building and start reconstruction of the new facility.

Nature of Requirement: The regulation requires that an environmental review be performed and a Request for Release of Funds be completed and certified prior to the commitment of non-HUD funds to a project using HUD funds.

Granted By: Nelson R. Bregón, General Deputy Assistant Secretary for Community Planning and Development.

Date Granted: May 15, 2009.

Reason Waived: The waiver was granted based on the following findings: the above project would further the objective of providing housing for low-income individuals with disabilities; the errors made in the environmental process for the commitment of non-HUD funds were made in good faith and Marklund did not willfully violate the applicable regulations; no HUD funds were committed and based on the environmental assessment and the HUD field inspection, granting a waiver would not result in any unmitigated, adverse environmental impact.

Contact: Danielle Schopp, Office of Environment and Energy, Office of Community Planning and Development, Department of Housing and Urban Development, 451 Seventh Street, SW., Room 7250, Washington, DC 20410-7000, telephone (202) 402-4442.

• Regulation: 24 CFR 92.203(a)(1) and (2); 24 CFR 92.209(c), (h), (i), (j), (k); 24 CFR 92.222(b); and 24 CFR 92.251.

Project/Activity: City of Galveston, Texas.

Nature of Requirement: Section 290 of the Cranston-Gonzalez National Affordable Housing Act of 1990 (NAHA), as amended, authorizes HUD to suspend certain HOME statutory requirements for jurisdictions located in areas that the President declares a disaster under Title IV of the Robert T. Stafford Disaster Relief and Emergency Assistance Act. In addition to the waiver of certain statutory requirements pursuant to the authority of section 290 of NAHA, HUD waived the regulations, referenced above in 24 CFR part 92, which part contains the HOME Investment Partnerships Program regulations. The identified regulatory sections pertain to income determinations, tenant-based rental assistance requirements, matching contribution requirements, and property standards, and the regulatory provisions waived were those that were identified as impeding recovery from the disaster.

Granted By: Nelson R. Bregón, General Deputy Assistant Secretary for Community Planning and Development.

Date Granted: May 14, 2009.

Reason Waived: Hurricane Ike caused significant wind and flood damage to homes and businesses in Galveston. Many households were displaced because of the storm. The waiver of the HOME Investment Partnerships Program regulations (in addition to the waiver of the statutory requirements authorized by section 290 of NAHA) will facilitate the City of Galveston's recovery efforts following damage resulting from Hurricane Ike.

• Regulation: 24 CFR 92.252(e).

Project/Activity: The Louisiana Housing Finance Agency (LHFA), which administers the HOME Program in the state of Louisiana, requested a waiver of the requirement that a HOME-assisted project meet the HOME affordability requirements for the applicable affordability period. LHFA provided HOME assistance to three rental properties located within the City of New Orleans that were heavily damaged by Hurricanes Katrina and Rita and, consequently, were rendered uninhabitable during their affordability periods. Because insurance proceeds and Low Income Housing Tax Credit (LIHTC) awards to the properties were insufficient to rehabilitate the properties to new stricter construction standards, the City of New Orleans sought to provide HOME funds to fill the funding gap. The HOME regulations prohibit the investment of additional HOME funds in a HOME-assisted project during the affordability period.

Nature of Requirement: The HOME final rule at 24 CFR 92.252 (e) requires that HOME-assisted units meet the affordability requirements for not less the applicable period specified in the regulation. The affordability requirements apply without regard to the term of any loan, mortgage or transfer of ownership. They are imposed by deed restrictions or covenants running with the land.

Granted By: Nelson R. Bregón, General Deputy Assistant Secretary for Community Planning and Development.

Date Granted: May 11, 2009.

Reasons Waived: Due to the extent of the damage caused by the hurricanes, HUD determined that the useful life of the three projects as it related to the original investment of HOME funds by LHFA had ended. Granting this waiver to terminate the existing HOME affordability periods for the three projects enabled the City of New Orleans to provide HOME funds as gap financing to complete the rehabilitation of these projects. The City agreed to treat these projects as new HOME projects under the City's HOME program, and establish new affordability periods.

Contact: Virginia Sardone, Deputy Director, Office of Affordable Housing Programs, Department of Housing and Urban Development, 451 7th Street, SW., Room 7164, Washington, DC 20410, telephone 202-708-2470.

II. Regulatory Waivers Granted by the Office of Housing—Federal Housing Administration (FHA)

For further information about the following regulatory waivers, please see the name of the contact person that immediately follows the description of the waiver granted.

• Regulation: 24 CFR 203.37a(b)(2).

Project/Activity: The waiver permits FHA financing on the sale of properties acquired by mortgagees through foreclosure within 90 days of acquisition by the mortgagee, their subsidiaries or vendors. In effect, it adds an additional exemption to those already existing in the regulation.

Nature of Requirement: The regulation provides that the mortgage for a property will not be insured by FHA if the contract of sale is executed within 90 days of the acquisition of the property by the seller.

Granted By: Brian D. Montgomery, Assistant Secretary for Housing—Federal Housing Commissioner.

Date Granted: May 11, 2009.

Reason Waived: Since the promulgation of the regulation, the volume of foreclosures has increased dramatically, especially in the past year. In examining the regulation FHA found that a temporary relaxation of its eligible property requirements would help address the specific case of the mortgage crisis. The current exemptions from the 90-day restriction were found to be insufficient to accommodate sales of properties acquired as the result of foreclosure by mortgage lenders other than those currently exempted, and do not accommodate exempt institutions that use subsidiaries and vendors to sell their inventory of foreclosed properties. The additional exemption was granted for sales of real estate owned by mortgagees to facilitate those sales and reduce deterioration in properties acquired through foreclosure that may otherwise remain vacant for up to 90 days because of FHA's existing policy.

Contact: Susan Cooper, Credit Policy Specialist, Office of Home Mortgage Insurance Division, Office of Housing, Department of Housing and Urban Development, 451 7th Street, SW., Washington, DC 20410-8000, telephone (202) 708-2121.

• Regulation: 24 CFR 203.43f(e)(ii).

Project/Activity: Waiver applicable to a single family detached property improved by a manufactured home located at 4259 Robinson Neck Road, Taylor's Island, Maryland 21669.

Nature of Requirement: The existing regulation requires that a manufactured home that has been permanently erected on a site for more than one year prior to the date of application for mortgage insurance must have the finished grade level beneath the manufactured home at or above the 100 year return frequency flood elevation.

Granted By: Brian D. Montgomery, Assistant Secretary for Housing—Federal Housing Commissioner.

Date Granted: April 17, 2009. The waiver is to be in effect for six months from date of waiver or until the purchase of the home, financed by an FHA-insured mortgage, is completed.

Reason Waived: The Department has published a proposed rule (FHA-Insurance for Manufactured Housing, FR-5075-P-01) that would, among other things, amend the flood hazard requirements for manufactured housing and align them with that of stick built homes as provided in the Minimum Property Standards at 24 CFR 200.926d (c)(4)(i). Specifically, upon the publication of this proposed rule as a final rule, a manufactured home that is within a FEMA designated SFHA would be eligible for FHA-insured financing if the lowest floor of the home (with no basement) is at or above the FEMA-designated base flood elevation. The subject of this waiver would be eligible for FHA-insured financing upon publication of the final rule. The regulation at 24 CFR 203.43f (d)(ii) has been waived in the past. Specifically, this regulation was waived by the Department in 2006 (and extended in 2007 and 2008) to permit manufactured housing in the State of Louisiana and located within a FEMA designated SFHA that was otherwise eligible for FHA-insured financing to qualify for such. The waiver was granted because the Department believed, as part of the reconstruction efforts following Hurricane Katrina, it was important to ensure that regulatory barriers did not impede the availability of an affordable housing type (such as manufactured housing).

Contact: Peter Gillispie, Home Valuation Policy Division, Office of Single Family Program Development, Office of Housing, Department of Housing and Urban Development, 451 7th St., SW., Washington, DC 20410-8000, telephone (202) 708-2121.

• Regulation: 24 CFR 219.220(b).

Project/Activity: Lambreth Apartments, Pittsburgh, PA (Alleghany County), Project Number 033-44803.

Nature of Requirement: Section 219.220(b) requires the repayment of flexible subsidy operating assistance loans plus interest upon prepayment/refinance of the Section 236 mortgage loan.

Granted By: Brian D. Montgomery, Assistant Secretary for Housing-Federal Housing Commissioner.

Dated Granted: May 21, 2009.

Reason Waived: The waiver is necessary to allow for the recapitalization of the project and the preservation of Lambreth Apartments as an affordable housing resource.

Contact: Gloria Burton, Housing Project Manager, Office of Multifamily Housing Management, Department of Housing and Urban Development, 451 7th Street, SW., Room 9224 Washington, DC 20410, telephone (202) 402-2611.

• Regulation: 24 CFR 232.3.

Project/Activity: Existing memory care facility located in Vacaville, CA.

Nature of Requirement: Section 232.3 states that not less than one full bathroom must be provided for every four residents of a board and care home or assisted living facility, and bathroom access from any bedroom or sleeping area must not pass through a public corridor or area.

Granted By: Brian D. Montgomery, Assistant Secretary for Housing-Federal Housing Commissioner.

Dated Granted: May 26, 2009.

Reason Waived: The facility is established for 100% dementia care. Because of the specific clientele served by the facility, toileting and showering present special circumstances that do not exist in a traditional assisted living community. The facility is constructed to resemble private homes clustered together with each home having a maximum of fifteen residents. Each home includes two full bathrooms including shower and one commode and sink for every five residents. This exceeds the California state requirement of one commode and sink for every six residents.

Contact: Roger E. Miller, Director, Office of Insured Health Care Facilities Office of Insured Health Care Facilities, Office of Housing, Department of Housing and Urban Development 451 7th Street, SW., Room 9224, Washington, DC 20410-8000, telephone (202) 708-0599.

• Regulation: 24 CFR 891.100(d).

Project/Activity: Old Towne Square, Lawton, OK, Project Number: 117-EE040/OK56-S071-002.

Nature of Requirement: Section 891.100(d) prohibits amendment of the amount of the approved capital advance funds prior to initial closing.

Granted By: Brian D. Montgomery, Assistant Secretary for Housing-Federal Housing Commissioner.

Date Granted: April 8, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Washington, DC 20410-8000, telephone (202) 708-3000.

• Regulation: 24 CFR 891.100(d).

Project/Activity: Berkshire County ARC-Lanesboro, Lanesboro, MA, Project Number: 023-HD224/MA06-Q051-005.

Nature of Requirement: Section 891.100(d) prohibits amendment of the amount of the approved capital advance funds prior to closing.

Granted by: Brian D. Montgomery, Assistant Secretary for Housing-Federal Housing Commissioner.

Date Granted: April 16, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Washington, DC 20410-8000, telephone (202) 708-3000.

• Regulation: 24 CFR 891.100(d).

Project/Activity: Saint Clare Court, Redding, CA, Project Number: 136-HD020/CA30-Q061-002.

Nature of Requirement: Section 891.100(d) prohibits amendment of the amount of the approved capital advance funds prior to closing.

Granted by: Brian D. Montgomery, Assistant Secretary for Housing-Federal Housing Commissioner.

Date Granted: April 22, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Victory Cathedral VOA Elderly Housing, Hartford, CT, Project Number: 017-EE098/CT26-S061-002.

Nature of Requirement: Section 891.100(d) prohibits amendment of the amount of the approved capital advance funds prior to closing.

Granted by: Brian D. Montgomery, Assistant Secretary for Housing-Federal Housing Commissioner.

Date Granted: April 22, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Washington, DC 20410-8000, telephone (202) 708-3000.

• Regulation: 24 CFR 891.100(d).

Project/Activity: Red Lake Supportive Housing, Red Lake, MN, Project Number: 092-HD069/MN46-Q061-002.

Nature of Requirement: Section 891.100(d) prohibits amendment of the amount of the approved capital advance funds prior to closing.

Granted by: Brian D. Montgomery, Assistant Secretary for Housing-Federal Housing Commissioner.

Date Granted: April 30, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Washington, DC 20410-8000, telephone (202) 708-3000.

• Regulation: 24 CFR 891.100(d).

Project/Activity: Divine Providence II, Eunice, LA, Project Number: 064-HD116/LA48-Q071-008.

Nature of Requirement: Section 891.100(d) prohibits amendment of the amount of the approved capital advance funds prior to closing.

Granted by: Brian D. Montgomery, Assistant Secretary for Housing-Federal Housing Commissioner.

Date Granted: May 13, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Washington, DC 20410-8000, telephone (202) 708-3000.

• Regulation: 24 CFR 891.100(d).

Project/Activity: Locust Grove Group Home, Locust Grove, VA, Project Number: 051-HD140/VA36-Q071-002.

Nature of Requirement: Section 891.100(d) prohibits amendment of the amount of the approved capital advance funds prior to closing.

Granted by: Brian D. Montgomery, Assistant Secretary for Housing-Federal Housing Commissioner.

Date Granted: May 13, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Mendenhall Woods, Juneau, AK, Project Number: 176-HD029/AK06-Q071-001.

Nature of Requirement: Section 891.100(d) prohibits amendment of the amount of the approved capital advance funds prior to closing.

Granted by: Brian D. Montgomery, Assistant Secretary for Housing-Federal Housing Commissioner.

Date Granted: May 13, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Washington, DC 20410-8000, telephone (202) 708-3000.

• Regulation: 24 CFR 891.100(d).

Project/Activity: TBD, Decatur, AL, Project Number: 062-HD066/LA09-Q071-002.

Nature of Requirement: Section 891.100(d) prohibits amendment of the amount of the approved capital advance funds prior to closing.

Granted by: Brian D. Montgomery, Assistant Secretary for Housing-Federal Housing Commissioner.

Date Granted: May 27, 2009.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Leonard Court Apartments, Clearfield, PA, Project Number: 033-EE133/PA28-S071-005.

Nature of Requirement: Section 891.100(d) prohibits amendment of the amount of the approved capital advance funds prior to closing.

Granted by: Brian D. Montgomery, Assistant Secretary for Housing-Federal Housing Commissioner.

Date Granted: May 28, 2009.

Reason Waived: The project is economically designed and comparable in cost to similar projects in the area, and the sponsor/owner exhausted all efforts to obtain additional funding from other sources.

Contact: Willie Spearmon, Director, Office of Housing Assistance and Grant Administration, Department of Housing and Urban Development, 451 7th Street, SW., Washington, DC 20410-8000, telephone (202) 708-3000.

• Regulation: 24 CFR 891.100(d).

Project/Activity: Mrs. Lou's Palace, Chataignier, LA, Project Number: 064-HD117/LA48-Q071-009.

Nature of Requirement: Section 891.100(d) prohibits amendment of the amount of the approved capital advance funds prior to closing.

Granted by: Brian D. Montgomery, Assistant Secretary for Housing-Federal Housing Commissioner.

Date Granted: May 29, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Washington, DC 20410-8000, telephone (202) 708-3000.

• Regulation: 24 CFR 891.100(d).

Project/Activity: Gamwell Residence, Pittsfield, MA, Project Number: 023-HD226/MA06-Q061-002.

Nature of Requirement: Section 891.100(d) prohibits amendment of the amount of the approved capital advance funds prior to closing.

Granted by: Brian D. Montgomery, Assistant Secretary for Housing-Federal Housing Commissioner.

Date Granted: May 29, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Washington, DC 20410-8000, telephone (202) 708-3000.

• Regulation: 24 CFR 891.100(d).

Project/Activity: Riverside Manor, Pocahontas, AR, Project Number: 082-EE178/AR37-S071-001.

Nature of Requirement: Section 891.100(d) prohibits amendment of the amount of the approved capital advance funds prior to closing.

Granted by: Brian D. Montgomery, Assistant Secretary for Housing-Federal Housing Commissioner.

Date Granted: June 4, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Washington, DC 20410-8000, telephone (202) 708-3000.

• Regulation: 24 CFR 891.100(d).

Project/Activity: Village Gardens Senior Housing, Norfolk, VA, Project Number: 051-EE124/VA36-S071-009.

Nature of Requirement: Section 891.100(d) prohibits amendment of the amount of the approved capital advance funds prior to closing.

Granted by: Brian D. Montgomery, Assistant Secretary for Housing-Federal Housing Commissioner.

Date Granted: June 11, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Washington, DC 20410-8000, telephone (202) 708-3000.

• Regulation: 24 CFR 891.100(d).

Project/Activity: St. Ann Senior Apartments, Lansford, PA, Project Number: 034-EE149/PA26-S061-001.

Nature of Requirement: Section 891.100(d) prohibits amendment of the amount of the approved capital advance funds prior to closing.

Granted by: Brian D. Montgomery, Assistant Secretary for Housing-Federal Housing Commissioner.

Date Granted: June 24, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Washington, DC 20410-8000, telephone (202) 708-3000.

• Regulation: 24 CFR 891.100(d).

Project/Activity: St. Joseph Residence at Mont Marie, Holyoke, MA, Project Number: 023-EE211/MA06-S071-001.

Nature of Requirement: Section 891.100(d) prohibits amendment of the amount of the approved capital advance funds prior to closing.

Granted by: Brian D. Montgomery, Assistant Secretary for Housing-Federal Housing Commissioner.

Date Granted: June 24, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Washington, DC 20410-8000, telephone (202) 708-3000.

• Regulation: 24 CFR 891.100(d).

Project/Activity: Piney Ridge Apartments II, Danville, VA, Project Number: 051-HD136/VA36-Q061-001.

Nature of Requirement: Section 891.100(d) prohibits amendment of the amount of the approved capital advance funds prior to closing.

Granted by: Brian D. Montgomery, Assistant Secretary for Housing-Federal Housing Commissioner.

Date Granted: June 24, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d) and 24 CFR 891.165.

Project/Activity: Kaaterskill Manor, Catskill, NY, Project Number: 014-EE252/NY06-S051-008.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing-Federal Housing Commissioner.

Date Granted: May 4, 2009.

Reason Waived: The project is economically designed and comparable in cost to similar projects in the area, and the sponsor/owner exhausted all efforts to obtain additional funding from other sources. Additional time was needed for the Sponsor/Owner to obtain additional funds, for the firm commitment to be issued, and for the initial closing of the project.

Contact: Willie Spearmon, Director, Office of Housing Assistance and Grant Administration, Office of Housing, Department of Housing and Urban Development, 451 7th Street, SW., Washington, DC 20410-8000, telephone (202) 708-3000.

• Regulation: 24 CFR 891.130(b).

Project/Activity: Country Gardens, Inc., Moore, SC, Project Number: 054-HD116/SC16-Q071-001.

Nature of Requirement: Section 891.130(b) prohibits an identity of interest between the sponsor or owner and any development team member or between development team members until two years after final closing.

Granted by: Brian D. Montgomery, Assistant Secretary for Housing-Federal Housing Commissioner.

Date Granted: April 10, 2009.

Reason Waived: The sponsor/owner and land-seller are non-profit entities, have non-compensated officers, and the intention is to recover the optioned value of the property to reimburse the land-seller, and the Spartanburg Housing Authority.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Kent Gardens, San Lorenzo, CA, Project Number: 121-EE172/CA39-S041-003.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: April 8, 2009.

Reason Waived: Additional time was needed for the project to be initially closed.

Contact: Willie Spearmon, Director, Office of Housing Assistance and Grant Administration, Office of Housing, Department of Housing and Urban Development, 451 7th Street, SW., Washington, DC 20410-8000, telephone (202) 708-3000.

• Regulation: 24 CFR 891.165.

Project/Activity: Johnnie B. Moore Towers II, Atlanta, GA, Project Number: 061-EE160/GA06-S061-004.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: April 16, 2009.

Reason Waived: The sponsor/owner needed additional time for approval of re-platting of the site required by the City of Atlanta, and for the project to be initially closed.

Contact: Willie Spearmon, Director, Office of Housing Assistance and Grant Administration, Office of Housing, Department of Housing and Urban Development, 451 7th Street, SW., Washington, DC 20410-8000, telephone (202) 708-3000.

• Regulation: 24 CFR 891.165.

Project/Activity: Red Lake Supportive Housing, Red Lake, MN, Project Number: 092-HD069/MN46-Q061-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: April 21, 2009.

Reason Waived: The sponsor/owner needed additional time to resubmit the firm commitment application exhibits and for the project to be initially closed.

Contact: Willie Spearmon, Director, Office of Housing Assistance and Grant Administration, Office of Housing, Department of Housing and Urban Development, 451 7th Street, SW., Washington, DC 20410-8000, telephone (202) 708-3000.

• Regulation: 24 CFR 891.165.

Project/Activity: Denton Affordable Housing Corporation, Denton, TX, Project Number: 113-HD036/TX16-Q051-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: April 22, 2009.

Reason Waived: Additional time was needed for the firm commitment to be processed, and for the project to be initially closed.

Contact: Willie Spearmon, Director, Office of Housing Assistance and Grant Administration, Office of Housing, Department of Housing and Urban Development, 451 7th Street, SW., Washington, DC 20410-8000, telephone (202) 708-3000.

• Regulation: 24 CFR 891.165.

Project/Activity: Nassau AHRC Development 2005, North Baldwin, NY, Project Number: 012-HD129/NY36-Q051-003.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: April 24, 2009.

Reason Waived: Additional time is needed for the firm commitment to be reprocessed, and for the project to reach initial closing.

Contact: Willie Spearmon, Director, Office of Housing Assistance and Grant Administration, Office of Housing, Department of Housing and Urban Development, 451 7th Street, SW., Washington, DC 20410-8000, telephone (202) 708-3000.

• Regulation: 24 CFR 891.165.

Project/Activity: Emerson Manor II, Longmeadow, MA, Project Number: 023-EE170/MA06-S031-005.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: May 11, 2009.

Reason Waived: Additional time was needed for the state agency to finalize the commitment of funds and for the project to reach initial closing.

Contact: Willie Spearmon, Director, Office of Housing Assistance and Grant Administration, Office of Housing, Department of Housing and Urban Development, 451 7th Street, SW., Washington, DC 20410-8000, telephone (202) 708-3000.

• Regulation: 24 CFR 891.165.

Project/Activity: Center of Hope (40 West Street), Southbridge, MA, Project Number: 023-HD221/MA06-Q051-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: May 13, 2009.

Reason Waived: Additional time was needed for the Sponsor/Owner to finalize the closing documents and for the project to reach initial closing.

Contact: Willie Spearmon, Director, Office of Housing Assistance and Grant Administration, Office of Housing, Department of Housing and Urban Development, 451 7th Street, SW., Washington, DC 20410-8000, telephone (202) 708-3000.

• Regulation: 24 CFR 891.165.

Project/Activity: Independence Manor III, (St. Francis of Assisi), Braintree, MA, Project Number: 023-EE169/MA06-S031-004.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: May 20, 2009.

Reason Waived: Additional time was needed for the sponsor/owner to resolve legal issues with Mass Housing and for the project to reach initial closing.

Contact: Willie Spearmon, Director, Office of Housing Assistance and Grant Administration, Office of Housing, Department of Housing and Urban Development, 451 7th Street, SW., Washington, DC 20410-8000, telephone (202) 708-3000.

• Regulation: 24 CFR 891.165

Project/Activity: Pembroke Housing for the Elderly, Pembroke, NH, Project Number: 024-EE102/NH36-S061-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: May 27, 2009.

Reason Waived: Additional time is needed for the firm commitment to be issued and for the project to be initially closed.

Contact: Willie Spearmon, Director, Office of Housing Assistance and Grant Administration, Office of Housing, Department of Housing and Urban Development, 451 7th Street, SW., Washington, DC 20410-8000, telephone (202) 708-3000.

• Regulation: 24 CFR 891.165.

Project/Activity: North Highlands VOA Living Center, North Highlands, CA, Project Number: 136-HD019/CA30-Q061-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: May 29, 2009.

Reason Waived: The sponsor/owner needed additional time to revise the firm commitment application, secure additional funds, and for the project to reach initial closing.

Contact: Willie Spearmon, Director, Office of Housing Assistance and Grant Administration, Office of Housing, Department of Housing and Urban Development, 451 7th Street, SW., Washington, DC 20410-8000, telephone (202) 708-3000.

• Regulation: 24 CFR 891.165.

Project/Activity: Saint Claire Court, Redding, CA, Project Number: 136-HD020/CA30-Q061-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: May 29, 2009.

Reason Waived: Additional time was needed for the sponsor/owner to obtain amendment funds, and for the project to reach an initial closing.

Contact: Willie Spearmon, Director, Office of Housing Assistance and Grant Administration, Office of Housing, Department of Housing and Urban Development, 451 7th Street, SW., Washington, DC 20410-8000, telephone (202) 708-3000.

• Regulation: 24 CFR 891.165.

Project/Activity: Country Gardens, Inc., Moore, SC, Project Number: 054-HD116/SC16-Q071-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: May 29, 2009.

Reason Waived: The sponsor/owner needed additional time to submit the firm commitment application and the closing documents, and for the project to reach initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Octavia Court, San Francisco, CA, Project Number: 121-HD087/CA39-Q061-002.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: May 29, 2009.

Reason Waived: Additional time is needed for the project to be initially closed.

Contact: Willie Spearmon, Director, Office of Housing Assistance and Grant Administration, Office of Housing, Department of Housing and Urban Development, 451 7th Street, SW., Washington, DC 20410-8000, telephone (202) 708-3000.

• Regulation: 24 CFR 891.165.

Project/Activity: Estabrook Senior Housing, San Leandro, CA, Project Number: 121-EE194/CA39-S071-007.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: May 29, 2009.

Reason Waived: Additional time is needed for the issuance of a firm commitment for initial/final closing to occur.

Contact: Willie Spearmon, Director, Office of Housing Assistance and Grant Administration, Office of Housing, Department of Housing and Urban Development, 451 7th Street, SW., Washington, DC 20410-8000, telephone (202) 708-3000.

• Regulation: 24 CFR 891.165.

Project/Activity: Folsom Oaks, Folsom, CA, Project Number: 136-HD017/CA30-Q041-001.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: June 8, 2009.

Reason Waived: The sponsor/owner needed additional time to secure secondary financing, for the firm commitment to be issued, and for the project to be initially closed.

Contact: Willie Spearmon, Director, Office of Housing Assistance and Grant Administration, Office of Housing, Department of Housing and Urban Development, 451 7th Street, SW., Washington, DC 20410-8000, telephone (202) 708-3000.

• Regulation: 24 CFR 891.165.

Project/Activity: Maranatha Senior Housing, Palantine Bridge, NY, Project Number: 014-EE264/NY06-S061-009.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: June 10, 2009.

Reason Waived: Additional time is needed for the firm commitment to be issued and for the project to be initially closed.

Contact: Willie Spearmon, Director, Office of Housing Assistance and Grant Administration, Office of Housing, Department of Housing and Urban Development, 451 7th Street, SW., Washington, DC 20410-8000, telephone (202) 708-3000.

• Regulation: 24 CFR 891.165.

Project/Activity: Johnnie B. Moore Towers II, Atlanta, GA, Project Number: 061-EE160/GA06-S061-004.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: June 25, 2009.

Reason Waived: More time is needed for the City of Atlanta to approve the re-platting of the site and for the project to reach an initial closing.

Contact: Willie Spearmon, Director, Office of Housing Assistance and Grant Administration, Office of Housing, Department of Housing and Urban Development, 451 7th Street, SW., Washington, DC 20410-8000, telephone (202) 708-3000.

• Regulation: 24 CFR 891.310(b)(3).

Project/Activity: Welcome House Apartments, Lakewood, OH, Project Number: 042-HD149/OH12-Q071-004.

Nature of Requirement: Section 891.310(b)(3) provides that in projects for developmentally disabled or physically disabled persons, all dwelling units in an independent living facility (or all bedrooms and bathrooms in a group home) must be designed to be accessible or adaptable for persons with physical disabilities.

Granted by: Brian D. Montgomery, Assistant Secretary for Housing-Federal Housing Commissioner.

Date Granted: June 25, 2009.

Reason Waived: The sponsor/owner will make three of the units fully accessible and should more residents require fully accessible units, accommodations will be made to ensure they are housed within the sponsor's other housing projects.

Contact: Willie Spearmon, Director, Office of Housing Assistance and Grant Administration, Office of Housing, Department of Housing and Urban Development, 451 7th Street, SW., Washington, DC 20410-8000, telephone (202) 708-3000.

• Regulation: 24 CFR 891.665(a)(3).

Project/Activity: Shawnee Supportive Housing, Kansas City, MO, Project Number: 084-HD054/KS16-Q061-001.

Project/Activity: Kansas City Supportive Housing, Kansas City, MO, Project Number: 084-HD059/KS16-Q071-001.

Nature of Requirement: Section 891.665(a)(3) provides that independent living complexes for handicapped families in the developmental disability or physically handicapped occupancy categories may not have more than 24 units nor more than 24 households on one site.

Granted by: Brian D. Montgomery, Assistant Secretary for Housing-Federal Housing Commissioner.

Date Granted: June 11, 2009.

Reason Waived: The project is feasible from a programmatic and market standpoint, it can be successfully integrated into the community and the state agency has approved the supportive service plan to combine the projects.

Contact: Willie Spearmon, Director, Office of Housing Assistance and Grant Administration, Office of Housing, Department of Housing and Urban Development, 451 7th Street, SW., Washington, DC 20410-8000, telephone (202) 708-3000.

III. Regulatory Waivers Granted by the Office of Public and Indian Housing

For further information about the following regulatory waivers, please see the name of the contact person that immediately follows the description of the waiver granted.

• Regulation: 24 CFR 5.801(d)(1).

Project/Activity: Platteville Housing Authority, (WI208), Platteville, WI.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Paula O. Blunt, General Deputy Assistant Secretary for Public and Indian Housing.

Date Granted: April 1, 2009.

Reason Waived: The HA, a Section 8 only entity, requested a waiver of its audited financial data reporting requirements for fiscal year end (FYE) September 30, 2008. The HA waiver request contends that the HA is a component unit of the City of Platteville (Primary Government) and the City's FYE is December 31, 2008, while the HA's FYE is September 30, 2008, causing a timing difference between the audited due dates. The waiver was granted requiring the audited financial submission due date of June 30, 2009 since the financial audit is conducted at the primary government level and will not be available by the HA's due date. The audited data is to be submitted as soon as it is completed by the City of Platteville's Independent Public Accountant but no later than October 15, 2009.

Contact: Myra E. Newbill, Program Manager, NASS, Real Estate Assessment Center, Office of Public and Indian Housing, Department of Housing and Urban Development, 550 12th Street, SW., Suite 100, Washington, DC 20410, telephone (202) 475-8988.

• Regulation: 24 CFR 5.801(d)(1).

Project/Activity: Crawford County Housing Authority, (KS161), Girard, KS.

Nature of Requirement: The regulation establishes certain reporting compliance dates.

The audited financial statements are required to be submitted to the Real Estate Assessment Center (REAC) no later than nine months after the Housing Authority's (HA) fiscal year end (FYE) in accordance with the Single Audit Act, and OMB Circular A-133.

Granted By: Paula O. Blunt, General Deputy Assistant Secretary for Public and Indian Housing.

Date Granted: April 1, 2009.

Reason Waived: The HA, a Section 8 only entity, requested a waiver of its audited financial submission due date of December 31, 2008, for the fiscal year ending (FYE) March 31, 2008. The HA's waiver request contends that the FYE of the Housing Choice Voucher program is December 31, 2008, while the FYE of Southeast Kansas Community Action Program, Inc. (SEK-CAP) is November 30, 2008, causing a timing difference between the audited dates. In addition, the SEK-CAP FYE November 30, 2008, single audit is due to the Federal Audit Clearinghouse on August 31, 2009. The waiver was granted because the circumstances that prevented the HA from submitting the audited financial information by the due date were beyond the control of the HA. The HA was advised to submit its audited financial data for FYE March 31, 2008, no later than September 15, 2009.

Contact: Myra E. Newbill, Program Manager, NASS, Real Estate Assessment Center, Office of Public and Indian Housing, Department of Housing and Urban Development, 550 12th Street, SW., Suite 100, Washington, DC 20410-5000, telephone (202) 475-8988.

• Regulation: 24 CFR 5.801(d)(1).

Project/Activity: Massachusetts Department of Housing and Community Development, (MA901), Boston, MA.

Nature of Requirement: The regulation establishes certain reporting compliance dates. The audited financial statements are required to be submitted to the Real Estate Assessment Center (REAC) no later than nine months after the Housing Authority's (HA) fiscal year end (FYE) in accordance with the Single Audit Act, and OMB Circular A-133.

Granted By: Paula O. Blunt, General Deputy Assistant Secretary for Public and Indian Housing.

Date Granted: April 20, 2009.

Reason Waived: The HA, a Section 8 only entity, is requesting additional sixty days to submit fiscal year ending (FYE) June 30, 2008 audit financial information. The HA's waiver request contends that the Commonwealth of Massachusetts (Primary Government) audit has not been finalized. The HA's auditors place substantial reliance upon the audit of the Commonwealth of Massachusetts and, therefore, will need additional time for their auditors to perform the necessary procedures related to the Primary Government's audit. The waiver was granted because housing authorities are unable to submit their audited financial information to the Department because the Financial Assessment Subsystem electronic submission template is being updated and modified to be compliant with asset management. The HA is to submit its audited financial date for FYE June 30, 2008, no later than June 30, 2009.

Contact: Myra E. Newbill, Program Manager, NASS, Real Estate Assessment Center, Office of Public and Indian Housing, Department of Housing and Urban Development, 550 12th Street, SW., Suite 100, Washington, DC 20410-5000, telephone (202) 475-8988.

• Regulation: 24 CFR 5.801(d)(1).

Project/Activity: Rio Arriba County Housing Authority, (NM039), Espanola, NM.

Nature of Requirement: The regulation establishes certain reporting compliance dates. The audited financial statements are required to be submitted to the Real Estate Assessment Center (REAC) no later than nine months after the housing authority's (HA) fiscal year end (FYE) in accordance with the Single Audit Act and OMB Circular A-133.

Granted By: Paula O. Blunt, General Deputy Assistant Secretary for Public and Indian Housing.

Date Granted: April 23, 2009.

Reason Waived: The HA has requested a waiver of its audited financial submissions for fiscal years ending (FYE) June 30, 2006 and June 30, 2007. The HA contends that their auditor entered all the information into the Financial Assessment Subsystem. The waiver was approved for FYE 2007 and denied for FYE 2006. The FY2007 audited financial submission was initially submitted timely; However, as a result of a misunderstanding between the HA and the auditor, the Corrected audited financial information was not electronically submitted to the Department. The waiver was denied for FYE 2006 because the audited financial submission was due to the Department on March 31, 2007, however the HA did not contract with the auditor until June 19, 2007. In addition, the audited financial submission for FYE June 30, 2006, was initially submitted to the Department on April 15, 2008, which was well past the due date of March 31, 2007.

Contact: Myra E. Newbill, Program Manager, NASS, Real Estate Assessment Center, Office of Public and Indian Housing, Department of Housing and Urban Development, 550 12th Street, SW., Suite 100, Washington, DC 20410-5000, telephone (202) 475-8988.

• Regulation: 24 CFR 5.801(d)(1).

Project/Activity: Housing Authority of the City of Pasco & Franklin, (WA021), Pasco, WA.

Nature of Requirement: The regulation establishes certain reporting compliance dates. The audited financial statements are required to be submitted to the Real Estate Assessment Center (REAC) no later than nine months after the housing authority's (HA) fiscal year end (FYE) in accordance with the Single Audit Act and OMB Circular A-133.

Granted By: Paula O. Blunt, General Deputy Assistant Secretary for Public and Indian Housing.

Date Granted: April 29, 2009.

Reason Waived: The HA requested an additional ninety days to submit their fiscal year end (FYE) June 30, 2008, audited financial information. The HA contends that the state auditor had difficulty in delivering his opinion on compliance with the special reporting requirements for the major federal programs, as a result of the Financial Assessment Subsystem system modifications for asset management. Accordingly, the waiver was granted because additional time was needed for the HA's auditor to perform the necessary audit procedures. The HA is to submit its audited financial data for FYE June 30, 2008, no later than July 17, 2009.

Contact: Myra E. Newbill, Program Manager, NASS, Real Estate Assessment Center, Office of Public and Indian Housing, Department of Housing and Urban Development, 550 12th Street, SW., Suite 100, Washington, DC 20410-5000, telephone (202) 475-8988.

• Regulation: 24 CFR 5.801(d)(1).

Project/Activity: Housing Authority of the City of Goldsboro, (NC015), Goldsboro, NC.

Nature of Requirement: The regulation establishes certain reporting compliance dates. The audited financial statements are required to be submitted to the Real Estate Assessment Center (REAC) no later than nine months after the housing authority's (HA) fiscal year end (FYE) in accordance with the Single Audit Act and OMB Circular A-133.

Granted By: Paula O. Blunt, General Deputy Assistant Secretary for Public and Indian Housing.

Date Granted: May 4, 2009.

Reason Waived: The HA requested additional time to submit its fiscal year end (FYE) June 30, 2008, audit financial submission. The HA contends that the auditor would not be able to complete the audit by the due date as a result of the Financial Assessment Subsystem modifications for asset management and other unforeseen circumstances. The waiver was granted and the HA is to submit its audited financial data for FYE June 30, 2008, no later than July 17, 2009.

Contact: Myra E. Newbill, Program Manager, NASS, Real Estate Assessment Center, Office of Public and Indian Housing, Department of Housing and Urban Development, 550 12th Street, SW., Suite 100, Washington, DC 20410-5000, telephone (202) 475-8988.

• Regulation: 24 CFR 5.801(d)(1).

Project/Activity: Housing Authority of the City of Kennewick, (WA012), Kennewick, WA.

Nature of Requirement: The regulation establishes certain reporting compliance dates. The audited financial statements are required to be submitted to the Real Estate Assessment Center (REAC) no later than nine months after the housing authority's (HA) fiscal year end (FYE) in accordance with the Single Audit Act and OMB Circular A-133.

Granted By: Paula O. Blunt, General Deputy Assistant Secretary for Public and Indian Housing.

Date Granted: May 8, 2009.

Reason Waived: The HA requested an additional ninety days to submit their fiscal year end (FYE) June 30, 2008, audit financial information. The HA contends that the Financial Assessment Subsystem (FASS) was being modified and the tools used to enter the required information was not available for use until January 2009; therefore, the HA's auditor was unable to enter the required audit financial information. In addition, the HA requested and received a Single Audit extension until June 30, 2009, from their cognizant Federal audit agency, the Department of Housing and Urban Development's Regional Office of Inspector General. The waiver was granted since the HA was not able to submit their audited financial information to the Department as a result of the FASS audited electronic submission template being updated and modified to be compliant with asset management.

Contact: Myra E. Newbill, Program Manager, NASS, Real Estate Assessment Center, Office of Public and Indian Housing, Department of Housing and Urban Development, 550 12th Street, SW., Suite 100, Washington, DC 20410-5000, telephone (202) 475-8988.

• Regulation: 24 CFR 5.801(d)(1).

Project/Activity: Arizona Department of Housing (ADOH), Phoenix, AZ.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Paula O. Blunt, General Deputy Assistant Secretary for Public and Indian Housing.

Date Granted: May 21, 2009.

Reason Waived: ADOH requested a waiver for additional time to submit their fiscal year audited data due to time restrictions imposed by the State's Office of the Auditor General. The HA is to submit its financial data no later than July 17, 2009.

Contact: Myra E. Newbill, Program Manager, NASS, Real Estate Assessment Center, Office of Public and Indian Housing, Department of Housing and Urban Development, 550 12th Street, SW., Suite 100, Washington, DC 20410-5000, telephone (202) 475-8988.

• Regulation: 24 CFR 5.801(d)(1).

Project/Activity: Housing Authority (HA) of Hickman, KY (KY037).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Paula O. Blunt, General Deputy Assistant Secretary for Public and Indian Housing.

Date Granted: May 21, 2009.

Reason Waived: The HA requested a waiver for additional time to submit corrections to their fiscal year audited data due to an extended power outage. The HA is to submit an invalidation request to correct a Late Presumptive Failure score and include a date of resubmission.

Contact: Myra E. Newbill, Program Manager, NASS, Real Estate Assessment Center, Office of Public and Indian Housing, Department of Housing and Urban Development, 550 12th Street, SW., Suite 100, Washington, DC 20410-5000, telephone (202) 475-8988.

• Regulation: 24 CFR 5.801(d)(1).

Project/Activity: Housing Authority (HA) of the City of New Haven, CT (CT004)

Nature of Requirement: The regulation establishes certain reporting compliance dates. The audited financial statements are required to be submitted to the Real Estate Assessment Center (REAC) no later than nine months after the housing authority's (HA) fiscal year end (FYE), in accordance with the Single Audit Act and OMB Circular A-133.

Granted By: Paula O. Blunt, General Deputy Assistant Secretary for Public and Indian Housing.

Date Granted: May 21, 2009.

Reason Waived: The HA requested a waiver for additional time to submit their audited financial information due to no response to a first auditor bid and a second with only one response. Once a audit engagement contract was executed, a new computer system added further delays. The HA is to submit its financial no later than September 30, 2009.

Contact: Myra E. Newbill, Program Manager, NASS, Real Estate Assessment Center, Office of Public and Indian Housing, Department of Housing and Urban Development, 550 12th Street, SW., Suite 100, Washington, DC 20410-5000, telephone (202) 475-8988.

• Regulation: 24 CFR 5.801(d)(1).

Project/Activity: Kitsap County Consolidated Housing Authority, (WA036), Platteville, WI.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Paula O. Blunt, General Deputy Assistant Secretary for Public and Indian Housing.

Date Granted: May 13, 2009.

Reason Waived: The HA requested an additional ninety days to submit their fiscal year end (FYE) June 30, 2008, audit financial information. The HA contends that the state audit was scheduled to begin later than customary and in addition, the lead auditor had a personal emergency that resulted in additional delays. The HA also contends that the state auditor was having difficulty in delivering his opinion on compliance with the special reporting requirements for the major Federal programs as a result of their unaudited financial information being submitted but not yet approved. Accordingly, additional time was needed for the HA's auditor to perform the necessary audit procedures. The waiver was granted and the additional time will permit the HA to enter its financial information into the financial data schedule format and allow the auditor to perform the necessary audit procedures. The HA is to submit its audited financial data for FYE June 30, 2008, no later than July 17, 2009.

Contact: Myra E. Newbill, Program Manager, NASS, Real Estate Assessment Center, Office of Public and Indian Housing, Department of Housing and Urban Development, 550 12th Street, SW., Suite 100, Washington, DC 20410-5000, telephone (202) 475-8988.

• Regulation: 24 CFR 5.801(d)(1).

Project/Activity: Phillipsburg Housing Authority (HA), NJ.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Paula O. Blunt, General Deputy Assistant Secretary for Public and Indian Housing.

Date Granted: May 13, 2009.

Reason Waived: The HA requested a waiver for additional time to submit both their unaudited and audited financial submissions for an FYE of June 30, 2008 due to personnel changes. The HA is to submit both no later than July 17, 2009.

Contact: Myra E. Newbill, Program Manager, NASS, Real Estate Assessment Center, Office of Public and Indian Housing, Department of Housing and Urban Development, 550 12th Street, SW., Suite 100, Washington, DC 20410-5000, telephone (202) 475-8988.

• Regulation: 24 CFR 5.801(d)(1).

Project/Activity: Monmouth County Housing Authority, (NJ095), Freehold, NJ.

Nature of Requirement: The regulation establishes certain reporting compliance dates. The audited financial statements are required to be submitted to the Real Estate Assessment Center (REAC) no later than nine months after the housing authority's (HA) fiscal year end (FYE) in accordance with the Single Audit Act and OMB Circular A-133.

Granted By: Paula O. Blunt, General Deputy Assistant Secretary for Public and Indian Housing.

Date Granted: June 11, 2009.

Reason Waived: The Housing Authority (HA), a Section 8 only entity, is requesting a waiver of the audited financial data reporting requirements for fiscal year end (FYE) June 30, 2008. The HA's waiver request contends that the HA is a component unit of the County of Monmouth (Primary Government) and the County's FYE is December 31, 2008, while the HA's (Monmouth County Housing Authority) FYE is June 30, 2008, causing a timing difference between the audited due dates. The waiver was granted since the financial audit is conducted at the primary government level and will not be available by the HA's due date. The audited data will be submitted as soon as it is completed by the County of Monmouth's Independent Public Accountant but no later than October 15, 2009. The Department recommended that the HA change its FYE to coincide with the FYE of the Reporting Entity (County of Monmouth). The HA was advised to contact their field office representative to begin the FYE change process. The comments link within the Financial Assessment Subsystem should be used to clarify that the financial information submitted relates to the December 31, 2008, FYE of the County of Monmouth.

Contact: Myra E. Newbill, Program Manager, NASS, Real Estate Assessment Center, Office of Public and Indian Housing, Department of Housing and Urban Development, 550 12th Street, SW., Suite 100, Washington, DC 20410-5000, telephone (202) 475-8988.

• Regulation: 24 CFR 902.20.

Project/Activity: New Albany Housing Authority (IN012), New Albany, IN

Nature of Requirement: The objective of this regulation is to determine whether a housing authority (HA) is meeting the standard of decent, safe, sanitary, and in good repair. The Real Estate Assessment Center (REAC) provides for an independent physical inspection of a HA's property of properties that includes a statistically valid sample of the units.

Granted By: Paula O. Blunt, General Deputy Assistant Secretary for Public and Indian Housing.

Date Granted: April 14, 2009.

Reason Waived: The housing authority (HA) requested a waiver from physical inspections under the Physical Assessment Subsystem (PASS) for fiscal years ending (FYE) March 31, 2009. The HA had severe damage during Hurricane Ike in September 2008. On January 29, 2009, the HA was affected by a severe ice storm that hindered repair efforts and caused additional damage. The HA was also affected by a wind storm on February 11, 2009, that resulted in further damage and delays in competing repairs. The waiver was granted because the circumstances surrounding the waiver request are beyond the HA's control.

Contact: Myra E. Newbill, Program Manager, NASS, Real Estate Assessment Center, Office of Public and Indian Housing, Department of Housing and Urban Development, 550 12th Street, SW., Suite 100, Washington, DC 20410-7000, telephone (202) 475-8988.

• Regulation: 24 CFR 902.20.

Project/Activity: Housing Authority of the City of Donaldsonville (LA043), Donaldsonville, LA.

Nature of Requirement: The objective of this regulation is to determine whether a housing authority (HA) is meeting the standard of decent, safe, sanitary, and in good repair. The Real Estate Assessment Center (REAC) provides for an independent physical inspection of a HA's property of properties that includes a statistically valid sample of the units.

Granted By: Paula O. Blunt, General Deputy Assistant Secretary for Public and Indian Housing.

Date Granted: May 13, 2009.

Reason Waived: The housing authority (HA) requested a waiver from physical inspections under the Physical Assessment Subsystem (PASS) for fiscal year ending (FYE) December 31, 2008. The HA requested a waiver from physical inspections due to physical damage to ninety percent of their units incurred during Hurricane Gustav in September 2008. The waiver was granted because the circumstances surrounding the waiver request are beyond the HA's control.

Contact: Myra E. Newbill, Program Manager, NASS, Real Estate Assessment Center, Office of Public and Indian Housing, Department of Housing and Urban Development, 550 12th Street, SW., Suite 100, Washington, DC 20410-5000, telephone (202) 475-8988.

• Regulation: 24 CFR 902.20.

Project/Activity: Housing Authority of the City of Harlingen (TX065), Harlingen, TX.

Nature of Requirement: The objective of this regulation is to determine whether a housing authority (HA) is meeting the standard of decent, safe, sanitary, and in good repair. The Real Estate Assessment Center (REAC) provides for an independent physical inspection of a HA's property of properties that includes a statistically valid sample of the units.

Granted By: Paula O. Blunt, General Deputy Assistant Secretary for Public and Indian Housing.

Date Granted: May 13, 2009.

Reason Waived: The housing authority (HA) requested a waiver from physical inspections due to significant roof and siding damages to their development sites incurred during Hurricane Dolly in July 2008. In addition, the HA is having difficulties contracting for repairs. The waiver was granted because the circumstances surrounding the waiver request are beyond the HA's control.

Contact: Myra E. Newbill, Program Manager, NASS, Real Estate Assessment Center, Office of Public and Indian Housing, Department of Housing and Urban Development, 550 12th Street, SW., Suite 100, Washington, DC 20410-5000, telephone (202) 475-8988.

• Regulation: 24 CFR 902.20.

Project/Activity: Deland Housing Authority (FL072), DeLand, FL.

Nature of Requirement: The objective of this regulation is to determine whether a housing authority (HA) is meeting the standard of decent, safe, sanitary, and in good repair. The Real Estate Assessment Center (REAC) provides for an independent physical inspection of a HA's property of properties that includes a statistically valid sample of the units.

Granted By: Sandra B. Henriquez, Assistant Secretary for Public and Indian Housing.

Date Granted: June 24, 2009.

Reason Waived: The housing authority (HA) requested a waiver from physical inspections under the Physical Assessment Subsystem (PASS) for fiscal years ending (FYE) June 30, 2007, through FYE June 30, 2011. The HA requested a waiver due to the fact that it has no public housing units in place. All the public housing units were demolished and the site is currently vacant. The HA received a HOPE VI relocation and demolition grant. However, the HA is not inactive because they are in the planning phase of rebuilding mixed finance units. The waiver was granted because the physical inspections for FY2007 and FY2008 have ended and no successful inspections were able to be completed. The waiver would also be extended to no overall PHAS assessment for FY2008 and FY2009 because there are no public housing units in place. The HA's request from physical inspections for FY2010 and for FY2011 will be re-evaluated when the FY2010 inspections are due.

Contact: Myra E. Newbill, Program Manager, NASS, Real Estate Assessment Center, Office of Public and Indian Housing, Department of Housing and Urban Development, 550 12th Street, SW., Suite 100, Washington, DC 20410-5000, telephone (202) 475-8988.

• Regulation: 24 CFR 941.306(b) and (c).

Project/Activity: Boston Housing Authority (BHA), Washington Beech Project, HOPE VI Grant MA06URD002I107.

Nature of Requirement: Subparts (b) and (c) of the regulation require that the construction of units are within the Total Development Costs (TDC) and Housing Construction Costs (HCC).

Granted by: Paula Blunt, former General Deputy Assistant Secretary for Public and Indian Housing.

Date Granted: May 4, 2009.

Reason Waived: During BHA's search for additional funding, Congress enacted and the President signed the American Reinvestment and Recovery Act (Recovery Act) on February 17, 2009. BHA received a commitment of Recovery Act Capital Funds of $33 million from HUD. BHA is committing $10 million of these funds to fill the gap left from a reduction in funding from the city and the reduction of tax credit equity. This change in source of funds caused the TDC/HCC limit to be exceeded, since now HOPE VI and Recovery Act funds will be used. The approval of the waiver of the TDC and HCC limit permits BHA to fully fund Phases IA and IB that contain a total of 53 public housing rental units and 47 affordable rental units and to proceed with construction and completion of this phase as planned. Also, the waiver enables BHA to use the balance of its HOPE VI grant for the other planned phases as originally budgeted and approved in the Washington Beech Revitalization Plan.

Contact: Dominique Blom, Deputy Assistant Secretary for the Office of Public Housing Investments, Office of Public and Indian Housing, Department of Housing and Urban Development, 451 7th Street, SW., Washington, DC 20140-5000, Room 4130, telephone (202) 402-4181.

• Regulation: 24 CFR 941.306(b).

Project/Activity: Bremerton Housing Authority (BHA), WA, Bay Vista, HOPE VI Grant WA19URD003I108.

Nature of Requirement: Subpart (b) of the regulation require that the construction of units is within the Total Development Costs (TDC).

Granted by: Sandra B. Henriquez, Assistant Secretary for Public and Indian Housing.

Date Granted: June 25, 2009.

Reason Waived: BHA received a commitment of Recovery Act funds of $1,457,591, of which it is committing $1,250,000 to Phase 2B to fill the gap left from not being able to sell public housing property. Phase 2B will now include HOPE VI, additional Capital Fund Program funds and Recovery Act funds. This change in the source of funds causes the TDC limit to be exceeded. This waiver permits BHA to construct 32 public housing units and 43 affordable units and to maintain its schedule of redevelopment at Bay Vista.

Contact: Dominique Blom, Deputy Assistant Secretary for the Office of Public Housing Investments, Office of Public and Indian Housing, Department of Housing and Urban Development, 451 7th Street, SW., Room 4130, Washington, DC 20140-5000, telephone (202) 402-4181.

• Regulation: 24 CFR 941.606(n)(1)(ii)(B).

Project/Activity: Daytona Beach Housing Authority (DBHA), Martin Luther King, Jr. HOPE VI Grant FL29URD007I103.

Nature of Requirement: The provision requires that if the partner and/or owner entity (or any other entity with an identity of interest with such parties) wants to serve as a general contractor for the project or development, it may award itself the construction contract only if it can demonstrate to HUD's satisfaction that its bid is the lowest submitted in response to a public request for bids.

Granted by: Paula Blunt, General Deputy Assistant Secretary for Public and Indian Housing.

Date Granted: May 12, 2009.

Reason Waived: The DBHA submitted an independent cost estimate for the homeownership phase of the Martin Luther King, Jr. HOPE VI project. The third party construction cost estimate totaled $201,604 per home. The estimate provided by the contractor per home totaled $112,600 per home. As cost was below that of the independent cost estimates, HUD's condition is satisfied.

Contact: Dominique Blom, Deputy Assistant Secretary for the Office of Public Housing Investments, Office of Public and Indian Housing, Department of Housing and Urban Development, 451 7th Street, SW., Room 4130, Washington, DC 20140-5000, telephone (202) 402-4181.

• Regulation: 24 CFR 941.606(n)(1)(ii)(B).

Project/Activity: San Antonio Housing Authority (SAHA), TX, Sutton Homes Apartments, Phase I.

Nature of Requirement: The provision requires that if the partner and/or owner entity (or any other entity with an identity of interest with such parties) wants to serve as a general contractor for the project or development, it may award itself the construction contract only if it can demonstrate to HUD's satisfaction that its bid is the lowest submitted in response to a public request for bids.

Granted by: Paula Blunt, General Deputy Assistant Secretary for Public and Indian Housing.

Date Granted: May 15, 2009.

Reason Waived: SAHA submitted an independent cost estimate for the Sutton Homes Apartments. The estimate provided by the contractor per square feet was less than the estimate per square feet for the development. As cost was below that of the independent cost estimates, HUD's condition is satisfied.

Contact: Dominique Blom, Deputy Assistant Secretary for the Office of Public Housing Investments, Office of Public and Indian Housing, Department of Housing and Urban Development, 451 7th Street, SW., Room 4130, Washington, DC 20140-5000, telephone (202) 402-4181.

• Regulation: 24 CFR 941.606 (n)(1)(ii)(B).

Project/Activity: Charleston-Kanawha Housing Authority's Replacement Housing Mixed-Finance Proposal

Nature of Requirement: The provision requires that if the partner and/or owner entity (or any other entity with an identity of interest with such parties) wants to serve as a general contractor for the project or development, it may award itself the construction contract only if it can demonstrate to HUD's satisfaction that its bid is the lowest submitted in response to a public request for bids.

Granted by: Sandra B. Henriquez, Assistant Secretary for Public and Indian Housing.

Date Granted: June 30, 2009.

Reason Waived: Charleston-Kanawha Housing Authority submitted a certification by an independent third-party construction estimator who reviewed plans/specifications and construction costs for Charleston Replacement Housing Phase 3 and certified that the costs were reasonable for the market area. HUD reviewed the independent cost estimate and related budgets and determined that the construction cost is reasonable and below the estimate. As cost was below that of the independent cost estimates, HUD's condition is satisfied.

Contact: Dominique Blom, Deputy Assistant Secretary for the Office of Public Housing Investments, Office of Public and Indian Housing, Department of Housing and Urban Development, 451 7th Street, SW., Room 4130, Washington, DC 20140-5000, telephone (202) 402-4181.

• Regulation: 24 CFR 941.610 (a)(1)-(a)(7).

Project/Activity: San Antonio Housing Authority (SAHA), TX, Closing of the Sutton Homes Phase I Mixed-Finance Phase.

Nature of Requirement: These regulatory provisions require HUD review and approval of certain legal documents relating to mixed-finance development before a closing can occur and public housing funds can be released. In lieu of HUD's review of these documents, SAHA must submit certifications to the accuracy and authenticity of the legal documents detailed in 24 CFR 941.610(a)(1)-(a)(7).

Granted by: Paula Blunt, General Deputy Assistant Secretary for Public and Indian Housing.

Date Granted: May 7, 2009.

Reason Waived: The waiver streamlined the review process, expedited closing and the production of public housing. The good cause justification includes prior SAHA experience, maintenance of previous financial structure and the timing of Low Income Housing Tax Credits (LIHTC).

Contact: Dominique Blom, Deputy Assistant Secretary for the Office of Public Housing Investments, Office of Public and Indian Housing, Department of Housing and Urban Development, 451 7th Street, SW., Room 4130, Washington, DC 20140-5000, telephone (202) 402-4181.

• Regulation: 24 CFR 941.610 (a)(1)-(a)(7).

Project/Activity: Charlotte Housing Authority (CHA), NC, Closing of the McCreesh Place Mixed-Finance Phase of Piedmont Courts HOPE VI Grant: NC19URD003I103.

Nature of Requirement: These regulatory provisions require HUD review and approval of certain legal documents relating to mixed-finance development before a closing can occur and public housing funds can be released. In lieu of HUD's review of these documents, CHA must submit certifications to the accuracy and authenticity of the legal documents detailed in 24 CFR 941.610(a)(1)-(a)(7).

Granted by: Deborah Hernandez, for Paula Blunt, former General Deputy Assistant Secretary for Public and Indian Housing.

Date Granted: June 1, 2009.

Reason Waived: The waiver streamlines the review process, expedited closing and production of public housing. Good cause justification includes prior CHA experience, duplication of prior mixed-finance structure, experience of legal counsel and status as a Moving to Work agency.

Contact: Dominique Blom, Deputy Assistant Secretary for the Office of Public Housing Investments, Office of Public and Indian Housing, Department of Housing and Urban Development, 451 7th Street, SW., Room 4130, Washington, DC 20140-5000, telephone (202) 402-4181.

• Regulation: 24 CFR 941.610(a)(1)-(a)(7).

Project/Activity: Closing of the Charleston Replacement Housing #3 Mixed-Finance Phase of the Charleston-Kanawha Housing Authority's (CKHA).

Nature of Requirement: These regulatory provisions require HUD review and approval of certain legal documents relating to mixed-finance development before a closing can occur and public housing funds can be released. In lieu of HUD's review of these documents, CKHA must submit certifications to the accuracy and authenticity of the legal documents detailed in 24 CFR 941.610 (a)(1)-(a)(7).

Granted by: Sandra B. Henriquez, Assistant Secretary for Public and Indian Housing.

Date Granted: June 30, 2009.

Reason Waived: The waiver streamlined the review process, expedited closing and production of public housing. Good cause justification includes prior partnership experience, previous legal documents, general development experience and pending regulatory changes.

Contact: Dominique Blom, Deputy Assistant Secretary for the Office of Public Housing Investments, Office of Public and Indian Housing, Department of Housing and Urban Development, 451 7th Street, SW. Washington, DC 20140-5000, Room 4130, telephone (202) 402-4181.

• Regulation: 24 CFR 982.503(d) and 982.505(c)(3).

Project/Activity: Perry Metropolitan Housing Authority (PMHA), Perry County, OH.

Nature of Requirement: The regulation, 24 CFR 982.503(d), states that HUD may consider and approve a PHA's establishment of a payment standard lower than the basic range, but that HUD will not approve a lower payment standard if the family share for more than 40 percent of participants in the PHA's HCV program exceeds 30 percent of adjusted monthly income. The regulation, 24 CFR 982.505(c)(3), provides that if the amount on the payment standard schedule is decreased during the term of the HAP contract, the lower payment standard amount generally must be used to calculate the monthly HAP for the family beginning at the effective date of the family's second regular reexamination following the effective date of the decrease.

Granted by: Paula O. Blunt, General Deputy Assistant Secretary for Public and Indian Housing.

Date Granted: May 20, 2009.

Reason Waived: These waivers were granted because these cost-saving measures would enable the PMHA to both manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.503(d) and 982.505(c)(3).

Project/Activity: City Crescent Housing Authority (CCHA), City Crescent, CA.

Nature of Requirement: The regulation at 24 CFR 982.505(c)(3) provides that if the amount on the payment standard schedule is decreased during the term of the HAP contract, the lower payment standard amount generally must be used to calculate the monthly HAP for the family beginning at the effective date of the family's second regular reexamination following the effective date of the decrease. The regulation at 24 CFR 982.503(d) states that HUD may consider and approve a PHA's establishment of a payment standard lower than the basic range, but that HUD will not approve a lower payment standard if the family share for more than 40 percent of participants in the PHA's HCV program exceeds 30 percent of adjusted monthly income

Granted by: Paula O. Blunt, General Deputy Assistant Secretary for Public and Indian Housing.

Date Granted: June 3, 2009.

Reason Waived: The first waiver was granted because this cost-saving measure would enable the CCHA to both manage its Housing Choice Voucher program within allocated budget authority and avoid or lessen the termination of HAP contracts due to insufficient funding. The second waiver was granted to allow the field office to approve payment standards below basic range since the CCHA's program was rent burdened.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: City of Glens Falls Housing Authority (CGFHA), Glens Falls, NY.

Nature of Requirement: The regulation at 24 CFR 982.505(c)(3) provides that if the amount on the payment standard schedule is decreased during the term of the HAP contract, the lower payment standard amount generally must be used to calculate the monthly HAP for the family beginning at the effective date of the family's second regular reexamination following the effective date of the decrease.

Granted by: Paula O. Blunt, General Deputy Assistant Secretary for Public and Indian Housing.

Date Granted: April 14, 2009.

Reason Waived: This waiver was granted because this cost-saving measure would enable the CGFHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of Oneonta (HACO), Oneonta, NY.

Nature of Requirement: The regulation at 24 CFR 982.505(c)(3) provides that if the amount on the payment standard schedule is decreased during the term of the HAP contract, the lower payment standard amount generally must be used to calculate the monthly HAP for the family beginning at the effective date of the family's second regular reexamination following the effective date of the decrease.

Granted by: Paula O. Blunt, General Deputy Assistant Secretary for Public and Indian Housing.

Date Granted: April 14, 2009.

Reason Waived: This waiver was granted because this cost-saving measure would enable the HACO to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Yakima Housing Authority (YHA), Yakima, WA.

Nature of Requirement: The regulation at 24 CFR 982.505(c)(3) provides that if the amount on the payment standard schedule is decreased during the term of the HAP contract, the lower payment standard amount generally must be used to calculate the monthly HAP for the family beginning at the effective date of the family's second regular reexamination following the effective date of the decrease.

Granted by: Paula O. Blunt, General Deputy Assistant Secretary for Public and Indian Housing.

Date Granted: May 8, 2009.

Reason Waived: This waiver was granted because this cost-saving measure would enable the YHA to both manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Village of Clinton, Village of Sylvan Beach, town of Camden and Village of Waterville, NY.

Nature of Requirement: The regulation at 24 CFR 982.505(c)(3) provides that if the amount on the payment standard schedule is decreased during the term of the HAP contract, the lower payment standard amount generally must be used to calculate the monthly HAP for the family beginning at the effective date of the family's second regular reexamination following the effective date of the decrease.

Granted by: Paula O. Blunt, General Deputy Assistant Secretary for Public and Indian Housing.

Date Granted: June 5, 2009.

Reason Waived: This waiver was granted because this cost-saving measure would enable these agencies administered by the Mohawk Valley Community Action Agency to both manage their Housing Choice Voucher programs within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Spokane Housing Authority (SHA), Spokane, WA.

Nature of Requirement: The regulation at 24 CFR 982.505(c)(3) provides that if the amount on the payment standard schedule is decreased during the term of the HAP contract, the lower payment standard amount generally must be used to calculate the monthly HAP for the family beginning at the effective date of the family's second regular reexamination following the effective date of the decrease.

Granted by: Paula O. Blunt, General Deputy Assistant Secretary for Public and Indian Housing.

Date Granted: June 5, 2009.

Reason Waived: This waiver was granted because this cost-saving measure would enable the SHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Cohoes Housing Authority (CHA), Cohoes, NY.

Nature of Requirement: The regulation at 24 CFR 982.505(c)(3) provides that if the amount on the payment standard schedule is decreased during the term of the HAP contract, the lower payment standard amount generally must be used to calculate the monthly HAP for the family beginning at the effective date of the family's second regular reexamination following the effective date of the decrease.

Granted by: Paula O. Blunt, General Deputy Assistant Secretary for Public and Indian Housing.

Date Granted: June 16, 2009.

Reason Waived: This waiver was granted because this cost-saving measure would enable the CHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of Kings County (HAKC), Kings County, CA.

Nature of Requirement: The regulation at 24 CFR 982.505(c)(3) provides that if the amount on the payment standard schedule is decreased during the term of the HAP contract, the lower payment standard amount generally must be used to calculate the monthly HAP for the family beginning at the effective date of the family's second regular reexamination following the effective date of the decrease.

Granted by: Paula O. Blunt, General Deputy Assistant Secretary for Public and Indian Housing.

Date Granted: June 16, 2009.

Reason Waived: This waiver was granted because this cost-saving measure would enable the HAKC to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Lake County Housing Authority (LCHA), Lake County, FL.

Nature of Requirement: The regulation at 24 CFR 982.505(c)(3) provides that if the amount on the payment standard schedule is decreased during the term of the HAP contract, the lower payment standard amount generally must be used to calculate the monthly HAP for the family beginning at the effective date of the family's second regular reexamination following the effective date of the decrease.

Granted by: Paula O. Blunt, General Deputy Assistant Secretary for Public and Indian Housing.

Date Granted: June 16, 2009.

Reason Waived: This waiver was granted because this cost-saving measure would enable the LCHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: City of Utica Section 8 Department (CUS8D), Utica, NY.

Nature of Requirement: The regulation at 24 CFR 982.505(c)(3) provides that if the amount on the payment standard schedule is decreased during the term of the HAP contract, the lower payment standard amount generally must be used to calculate the monthly HAP for the family beginning at the effective date of the family's second regular reexamination following the effective date of the decrease.

Granted by: Paula O. Blunt, General Deputy Assistant Secretary for Public and Indian Housing.

Date Granted: June 16, 2009.

Reason Waived: This waiver was granted because this cost-saving measure would enable the CUS8D to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Madison Community Development Authority (MCDA), Madison, WI.

Nature of Requirement: The regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: June 25, 2009.

Reason Waived: This waiver was granted because this cost-saving measure would enable the MCDA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(4).

Project/Activity: Shelby Metropolitan Housing Authority (YHA), Shelby County, OH.

Nature of Requirement: This regulation states that if the payment standard amount is increased during the term of the housing assistance payments (HAP) contract, the increased payment standard amount shall be used to calculate the monthly HAP for the family beginning at the effective date of the family's first regular reexamination on or after the effective date of the increase in the payment standard amount.

Granted by: Paula O. Blunt, General Deputy Assistant Secretary for Public and Indian Housing.

Date Granted: April 29, 2009.

Reason Waived: The regulation was waived since the SMHA proposed to alleviate any rent burden that may have resulted through the implementation of a lower payment standard as a previous cost-savings measure by immediately applying increased payment standards for all affected participants.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(4).

Project/Activity: Adams Metropolitan Housing Authority (AMHA), Adams, OH.

Nature of Requirement: The regulation at 24 CFR 982.505(c)(4) provides that if the payment standard amount is increased during the term of the housing assistance payments (HAP) contract, the increased payment standard amount shall be used to calculate the monthly HAP for the family beginning at the effective date of the family's first regular reexamination on or after the effective date of the increase in the payment standard amount. A waiver of this regulation was requested so that the AMHA could apply increased payment standards immediately for all families rather than wait until a family's next regular annual reexamination.

Granted by: Paula O. Blunt, General Deputy Assistant Secretary for Public and Indian Housing.

Date Granted: June 16, 2009.

Reason Waived: This waiver was granted so that the MHA could alleviate any rent burden that may have resulted through the implementation of a lower payment standard as a cost-savings measure.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: San Francisco Housing Authority (SFHA), San Francisco, CA.

Nature of Requirement: Regulations state that a public housing agency may only approve a higher payment standard for a family as a reasonable accommodation if the higher payment standard is within the basic range of 90 to 110 percent of the fair market rent (FMR) for the unit size. The HACSC requested a waiver so to provide reasonable accommodations to a person with disabilities.

Granted by: Paula O. Blunt, General Deputy Assistant Secretary for Public and Indian Housing.

Date Granted: April 14, 2009.

Reason Waived: The participants were rent burdened due to a significant rent increase. Their health care provider recommended that they remain in their current unit due to their disabilities. For these participants to pay no more than 40 percent of adjusted income toward the family share, SFHA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: San Francisco Housing Authority (SFHA), San Francisco, CA.

Nature of Requirement: Regulations state that a public housing agency may only approve a higher payment standard for a family as a reasonable accommodation if the higher payment standard is within the basic range of 90 to 110 percent of the fair market rent (FMR) for the unit size. The HACSC requested a waiver so to provide reasonable accommodations to a person with disabilities.

Granted by: Paula O. Blunt, General Deputy Assistant Secretary for Public and Indian Housing.

Date Granted: May 5, 2009.

Reason Waived: The participants were rent burdened due to a significant rent increase. Their health care provider recommended that they remain in their current unit due to their disabilities. For these participants to pay no more than 40 percent of adjusted income toward the family share, SFHA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Housing Authority of the City of Daytona Beach (HACDB), Daytona Beach, FL.

Nature of Requirement: Regulations state that a public housing agency may only approve a higher payment standard for a family as a reasonable accommodation if the higher payment standard is within the basic range of 90 to 110 percent of the fair market rent (FMR) for the unit size. The HACSC requested a waiver so to provide reasonable accommodations to a person with disabilities.

Granted by: Paula O. Blunt, General Deputy Assistant Secretary for Public and Indian Housing.

Date Granted: May 21, 2009.

Reason Waived: The applicant's health care provider recommended that he remain in his manufactured home to be close to family that provides daily assistance with his everyday needs. For this applicant to pay no more than 40 percent of adjusted income toward the family share, HACDB was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Housing Authority of the City of Los Angeles (HACLA).

Nature of Requirement: 24 CFR 982.505(d) states that a public housing agency may only approve a higher payment standard for a family as a reasonable accommodation if the higher payment standard is within the basic range of 90 to 110 percent of the fair market rent (FMR) for the unit size.

Granted By: Paula O. Blunt, General Deputy Assistant Secretary for Public and Indian Housing.

Date Granted: June 3, 2009.

Reason Waived: The client, who is disabled, needs to remain in her current unit as moving would be detrimental to her overall health. To provide a reasonable accommodation so that this client could be assisted in her current unit and pay no more than 40 percent of her adjusted income toward the family share, the HACLA was allowed to approve an exception payment standard that exceeded the basic range of 90 to 110 percent of the FMR

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.627(b).

Project/Activity: Housing Authority of New Orleans (HANO), New Orleans, LA.

Nature of Requirement: The regulation at 24 CFR 982.627(b) provides that at the commencement of homeownership assistance under the Housing Choice Voucher program, the family must be a first-time homeowner as defined in 24 CFR 982.4.

Granted by: Paula O. Blunt, General Deputy Assistant Secretary for Public and Indian Housing.

Date Granted: June 16, 2009.

Reason Waived: This waiver was granted to allow former homeowners of Christopher Park units affected by Hurricane Katrina to immediately participate in HANO's homeownership program at such time that they no longer have ownership interest in their units at Christopher Park.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.152(a) and (b).

Project/Activity: Richmond Housing Authority (RHA), Richmond, CA.

Nature of Requirement: The regulation at 24 CFR 983.152(a) and (b) require that a public housing agency (PHA) enter into an Agreement to Enter into a Housing Assistance Payments (HAP) Contract (Agreement) in a form required by HUD in which the owner agrees to develop the contract units to comply with housing quality standards and the PHA agrees that upon timely completion of such development in accordance with the terms of the Agreement, the PHA will enter into a HAP contract with the owner for the units.

Granted by: Paula O. Blunt, General Deputy Assistant Secretary for Public and Indian Housing.

Date Granted: May 26, 2009.

Reason Waived: This waiver was granted since it was documented that the developed complied with all of the requirements under the Agreement and that project-based voucher assistance for the Trinity Plaza was an integral piece of a much larger funding commitment on the part of the RHA and the city of Richmond to revitalize the neighborhood.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.51(b).

Project/Activity: Louisiana Office of Community Development (OCD), Baton Rouge, LA.

Nature of Requirement: 24 CFR Section 983.51(b) states a PHA must select PBV proposals in accordance with the selection procedures in the PHA administrative plan. The PHA must select PBV proposals by one of two methods. OCD requested a waiver for families receiving temporary housing assistance under the Road Home program with Community Development Block Grant (CDBG) funds and a related Louisiana State initiative. The programs were designed to provide up to two years of rental assistance. The recipients of the assistance also benefit from the CDBG-funded supportive services that are also part of the Road Home program. OCD requested the waiver in order to select eligible units that house eligible families who are receiving the temporary housing assistance without requiring the unit owners to compete for PBV assistance.

Granted by: Paula O. Blunt, General Deputy Assistant Secretary.

Date Granted: May 15, 2009.

Reason Waived: The waiver was granted because of the extremely unique circumstances in this case, including, the vulnerability of the population to be assisted; the statutory requirement that the PBV assistance be provided in connection with permanent supportive housing as referenced in the Road Home Program of the Louisiana Recovery Authority; the fact that the families benefitting from the waiver are eligible and will be assisted by the OCD under the PSH-PBV; and that to require a competition could result in unnecessary displacement of eligible families.

Contact: Laure Rawson, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 990.185(a).

Project/Activity: Tampa Housing Authority (THA), Tampa, FL.

Nature of Requirement: 24 CFR 990.185(a) states that “if a PHA undertakes energy conservation measures that are financed by an entity other than HUD, the PHA may qualify for incentives available under 24 CFR 990.185”.

Granted By: Paula O. Blunt, General Deputy Assistant Secretary for Public and Indian Housing.

Date Granted: May 8, 2009.

Reason Waived: The Tampa Housing Authority requested to use and was approved to use accumulated energy savings from an earlier Energy Performance Contract (EPC) as collateral and as a source of payment for third party financing of their planned energy improvements.

Contact: Richard D. Santangelo, Senior Engineer, Office of Public Housing and Voucher Programs, Office of Public and Indian Housing, Department of Housing and Urban Development, 451 7th Street, SW., Room 4226, Washington, DC 20410-5000, telephone (202) 402-3540.

• Regulation: 24 CFR 1000.336(d).

Project/Activity: Request by the Ponca Tribe of Nebraska's for a waiver of deadline for submitting a Census challenge to the Fiscal Year 2010 Indian Housing Block Grant (IHBG) formula data.

Nature of Requirement: In accordance with 24 CFR 1000.336(d), documentation supporting Census challenges to needs data used to compute IHBG formula allocations must be submitted to HUD by March 30th in order for them to be considered for the upcoming FY allocation.

Granted by: Paula O. Blunt, General Deputy Assistant Secretary for Public and Indian Housing

Date Granted: April 09, 2009.

Reason Waived: The Northern Ponca Housing Authority (NPHA) did not have the opportunity to prepare a submission prior to the March 30, 2009, deadline because the NPHA has had several administrative and staffing changes within the past 4 months. The survey process was to be completed during this time but because of these changes, the NPHA was inadequately staffed to complete the project. Considering the importance of using the best available data to determine FY 2010 IHBG allocations, HUD found good cause existed to waive the deadline for the Ponca Tribe of Nebraska to submit a Census challenge for FY 2010. HUD provided the Tribe with an additional 90 days from the date the request was approved to submit data and proper documentation for consideration in FY 2010, data and proper documentation must be submitted to the IHBG Customer Service Center.

Contact: Deborah Lalancette, Director, Office of Grants Management, Office of Native American Programs, Office of Public and Indian Housing, Department of Housing and Urban Development, 1670 Broadway, 23rd Floor, Denver, CO 80202, telephone (303) 675-1600.

• Regulation: 24 CFR 1000.232.

Project/Activity: Request by the following tribally designated housing entities (TDHEs) for a waiver of requiring tribal certifications for their Indian Housing Plan (IHP) amendments in order to receive economic stimulus funds made available under the American Recovery and Reinvestment Act of 2009 (Recovery Act) or Native Americans: Aleutian Housing Authority, Association of Village Council Presidents Regional Housing Authority, Bering Straits Regional Housing Authority, Copper River Basin Regional Housing Authority, Interior Regional Housing Authority, Kodiak Island Housing Authority, North Pacific Rim Regional Housing Authority, Tagiugmiullu Nunamiullu Housing Authority and Tlingit-Haida Regional Housing Authority.

Nature of Requirement: The regulation at 24 CFR 1000.232 requires that tribal certifications must accompany IHP amendments when submitted by a TDHE to HUD.

Granted by: Paula O. Blunt, General Deputy Assistant Secretary for Public and Indian Housing.

Date Granted: April 13, 2009.

Reason Waived: There are 150 tribes represented by these 9 umbrella TDHEs. It is an administrative burden upon these TDHEs, necessitating additional time and expense to obtain the tribal certifications from each tribe in order to determine that an IHP is in compliance. In addition, tribal certifications were submitted at the time of the initial IHP submittal that authorized the TDHE to submit an IHP on its behalf. Further, the Area Office of Native American Programs is not able to process 2008 IHP Amendments for the Recovery Act submitted by TDHEs in a timely manner due to this requirement. Considering the urgent need to improve the housing conditions on Indian reservations and in Alaska Native villages, HUD found good cause exists to waive the provision of § 1000.232 so that the TDHEs listed above can have their IHP amendments processed in an expedited manner, and to ensure that funds are provided to the tribes as quickly as possible so that the timelines in the Recovery Act for obligation and expenditure of funds can be met.

Contact: Deborah Lalancette, Director, Office of Grants Management, Office of Native American Programs, Office of Public and Indian Housing, Department of Housing and Urban Development, 1670 Broadway, 23rd Floor, Denver, CO 80202, telephone (303) 675-1600.

[FR Doc. E9-22352 Filed 9-15-09; 8:45 am]

BILLING CODE 4210-67-P